DEPARTMENT OF LABOR

Mine Safety and Health Administration

Petitions for Modification

The following parties have filed petitions to modify the application of existing safety standards under section 101(c) of the Federal Mine Safety and Health Act of 1977.

1. Rockhouse Creek Development Corp.

[Docket No. M-2001-075-C]

Rockhouse Creek Development Corp., P.O. Box 1389, Gilbert, West Virginia 25621 has filed a petition to modify the application of 30 CFR 75.1103 (automatic fire warning devices) to its No. 1 Mine (I.D. No. 46-08366) located in Mingo County, West Virginia. The petitioner proposes to use an alternative method for automatic fire warning devices. The petitioner proposes to install a low-level carbon monoxide detection system as an early warning fire detection system in all belt entries. The petitioner asserts that the proposed alternative method would provide at least the same measure of protection as the existing standard.

2. Coastal Coal-West Virginia, LLC

[Docket No. M-2001-076-C]

Coastal Coal-West Virginia, LLC, 61 Missouri Run Road, Cowen, West Virginia 26206 has filed a petition to modify the application of 30 CFR 75.1002 (location of trolley wires, trolley feeder wires, high-voltage cables and transformers) to its Popular Ridge No. 1 Deep Mine (I.D. No. 46-08885) located in Webster County, West Virginia. The petitioner proposes to use continuous mining machines with nominal voltage of the power circuits not to exceed 2,400 volts at its Popular Ridge No. 1 Deep Mine. The petitioner asserts that the proposed alternative method would provide at least the same measure of protection as the existing standard.

3. San Juan Coal Company

[Docket No. M-2001-077-C]

San Juan Coal Company, P.O. Box 561, Waterflow, New Mexico 87421 has filed a petition to modify the application of 30 CFR 75.804(a) and (b) (underground high-voltage cables) to its San Juan South Mine (I.D. No. 29-02170) and San Juan Deep Mine (I.D. No. 29-02201) located in San Juan County, New Mexico. The petitioner proposes to use 4,160-volt cables for longwall equipment, with a symmetrical 3/C, 3/G, and 1/GC construction and a ground check conductor not smaller than a No. 16 (AWG). The high-voltage cables would be Cablec Anaconda brand 5KV 3/C type SHD+GC or similar 5,000-volt cable with a center ground check conductor, but otherwise manufactured to the ICEA Standard S-75-381 for Type SHD, three-conductor cables. The petitioner asserts that the cables would be MSHA accepted flame-resistant and that the proposed alternative method would provide at least the same measure of protection as the existing standard.

4. Black Beauty Coal Company

[Docket No. M-2001-078-C]

Black Beauty Coal Company, P.O. Box 290, Georgetown, Illinois 61846 has filed a petition to modify the application of 30 CFR 75.1002 (location of trolley wires, trolley feeder wires, high-voltage cables and transformers) to its Vermillion Grove Mine (I.D. No. 11-03060) located in Vermillion County, Indiana. The petitioner proposes to use high-voltage (2,400-volt) cables inby the last open crosscut at the working continuous miner section(s). The petitioner asserts that the proposed alternative method would provide at least the same measure of protection as the existing standard.

5. Drummond Company, Inc.

[Docket No. M-2001-079-C]

Drummond Company, Inc., P.O. Box 10246, Birmingham, Alabama 35202-0246 has filed a petition to modify the application of 30 CFR 75.1002 (location of trolley wires, trolley feeder wires, high-voltage cables and transformers) to its Shoal Creek Mine (I.D. No. 01-02901) located in Jefferson County, Alabama. The petitioner proposes to use continuous mining machines with nominal voltage of the power circuits not to exceed 2,400 volts at its Shoal Creek Mine. The petitioner asserts that the proposed alternative method would provide at least the same measure of protection as the existing standard.

6. Beech Fork Processing, Inc.

[Docket No. M-2001-080-C]

Beech Fork Processing, Inc., P.O. Box 480, Lovely, Kentucky 41231 has filed a petition to modify the application of 30 CFR 75.503 (permissible electric face equipment; maintenance) and 30 CFR 18.41(f) (plug and receptacle-type connectors) to its No. 5 Mine (I.D. No. 15-18407) located in Martin County, Kentucky. The petitioner proposes to use permanently installed spring-loaded devices instead of a padlock on mobile battery-powered equipment to prevent unintentional loosening of battery plugs from battery receptacles to eliminate the hazards associated with difficult removal of padlocks during emergency situations. The petitioner asserts that application of the existing standard would result in a diminution of safety to the miners and that the proposed alternative method would provide at least the same measure of protection as the existing standard.

Request for Comments

Persons interested in these petitions are encouraged to submit comments via e-mail to comments@msha.gov, or on a computer disk along with an original hard copy to the Office of Standards, Regulations, and Variances, Mine Safety and Health Administration, 4015 Wilson Boulevard, Room 627, Arlington, Virginia 22203. All comments must be postmarked or received in that office on or before September 10, 2001. Copies of these petitions are available for inspection at that address.

Dated at Arlington, Virginia this 30th day of July 2001.
David L. Meyer,
Director, Office of Standards, Regulations, and Variances.

[FR Doc. 01-19944 Filed 8-8-01; 8:45 am]

BILLING CODE 4510-43-P